NATIONAL AERONAUTICS AND SPACE ADMINISTRATION

[Notice 12-081]

Meeting of Astrophysics Subcommittee of the NASA Advisory Council Science Committee

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC) Science Committee. This Subcommittee reports to the Science Committee of the NAC. The meeting will be held via Teleconference and WebEx for the purpose of soliciting, from the scientific community and other persons, scientific and technical information relevant to program planning.

DATES: Tuesday, November 6, 2012, 12 p.m. to 4 p.m., local time.

ADDRESSES: This meeting will take place telephonically and by WebEx. Any interested person may call the USA toll free conference call number 888-391-7042, pass code APS, to participate in this meeting by telephone. The WebEx link is https://nasa.webex.com/, meeting number 993 757 038, and password APS$6Nov12.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Astrophysics Division Update

—Proposed Data Centers Study

—Strategic Implementation for the Astrophysics Division

It is imperative that the meeting be held on this date to accommodate the scheduling priorities of the key participants.

Patricia D. Rausch,
Advisory Committee Management Officer, National Aeronautics and Space Administration.

[FR Doc. 2012-25230 Filed 10-12-12; 8:45 am]

BILLING CODE 7510-13-P